DEPARTMENT OF COMMERCE

National Oceanic and Atmospheric Administration

RIN 0648-XC801

Fisheries of the South Atlantic; South Atlantic Fishery Management Council; Public Meeting

AGENCY: National Marine Fisheries Service (NMFS), National Oceanic and Atmospheric Administration (NOAA), Commerce.

ACTION: Meeting of the South Atlantic Fishery Management Council (SAFMC) Scientific and Statistical Committee (SSC).

SUMMARY: The SAFMC will hold a meeting of its SSC to discuss a proposal for peer review of a wreckfish stock assessment. See SUPPLEMENTARY INFORMATION.

DATES: The SSC meeting will be held via webinar on Tuesday, September 3, 2013, from 1 p.m. to 4 p.m. See SUPPLEMENTARY INFORMATION.

ADDRESSES: The meetings will be held via webinar. The webinar is open to members of the public. Those interested in participating should contact John Carmichael at the SAFMC (see Contact Information below) to request an invitation providing webinar access information. Please request webinar invitations at least 24 hours in advance of the webinar.

Council address: South Atlantic Fishery Management Council, 4055 Faber Place Drive, Suite 201, N. Charleston, SC 29405.

FOR FURTHER INFORMATION CONTACT: John Carmichael; telephone: (843) 571-4366 or toll-free: (866) SAFMC-10; fax: (843) 769-4520; email: john.carmichael@safmc.net.

SUPPLEMENTARY INFORMATION: The items of discussion in the SSC webinar are as follows:

A proposal for an SSC peer review of an assessment of wreckfish in the South Atlantic will be addressed. The proposal is submitted in accordance with the SAFMC Peer Review Guidelines.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is physically accessible to people with disabilities. Requests for sign language interpretation or other auxiliary aids should be directed to the Council office (see ADDRESSES) at least 10 business days prior to the meeting.

Note: The times and sequence specified in this agenda are subject to change.

Authority: 16 U.S.C. 1801 et seq.

Dated: August 6, 2013.
William D. Chappell,
Acting Deputy Director, Office of Sustainable Fisheries, National Marine Fisheries Service.

[FR Doc. 2013-19301 Filed 8-8-13; 8:45 am]

BILLING CODE 3510-22-P